DEPARTMENT OF ENERGY

Federal Energy Regulatory Commission

Combined Notice of Filings #1

Take notice that the Commission received the following exempt wholesale generator filings:

Docket Numbers: EG19-26-000.

Applicants: Solomon Forks Wind Project, LLC.

Description: Notice of Self-Certification of Exempt Wholesale Generator Status of Solomon Forks Wind Project, LLC.

Filed Date: 11/28/18.

Accession Number: 20181128-5033.

Comments Due: 5 p.m. ET 12/19/18.

Take notice that the Commission received the following electric rate filings:

Docket Numbers: ER10-3079-014.

Applicants: Tyr Energy, LLC.

Description: Amendment to December 12, 2017 Updated Market Power Analysis for the Southeast Region of Tyr Energy, LLC.

Filed Date: 11/27/18.

Accession Number: 20181127-5159.

Comments Due: 5 p.m. ET 12/18/18.

Docket Numbers: ER19-66-001.

Applicants: Conemaugh Power Pass-Through Holders LLC.

Description: Tariff Amendment: Modify Market-Based Rate Application to be effective 11/29/2018.

Filed Date: 11/28/18.

Accession Number: 20181128-5128.

Comments Due: 5 p.m. ET 12/19/18.

Docket Numbers: ER19-70-001.

Applicants: Keystone Power Pass-Through Holders LLC.

Description: Tariff Amendment: Modify Market-Based Rate Tariff Application to be effective 11/29/2018.

Filed Date: 11/28/18.

Accession Number: 20181128-5134.

Comments Due: 5 p.m. ET 12/19/18.

Docket Numbers: ER19-406-000.

Applicants: PJM Interconnection, L.L.C.

Description: § 205(d) Rate Filing: Original ISA, SA No. 5236; Queue No. AA2-070 to be effective 10/26/2018.

Filed Date: 11/27/18.

Accession Number: 20181127-5113.

Comments Due: 5 p.m. ET 12/18/18.

Docket Numbers: ER19-407-000.

Applicants: Midcontinent Independent System Operator, Inc.

Description: § 205(d) Rate Filing: 2018-11-27_SA 3155 Termination of ATC-ACEC PCA (Springwater) to be effective 11/28/2018.

Filed Date: 11/27/18.

Accession Number: 20181127-5158.

Comments Due: 5 p.m. ET 12/18/18.

Docket Numbers: ER19-408-000.

Applicants: Wisconsin Power and Light Company.

Description: § 205(d) Rate Filing: WPL—Pioneer Power Wholesale Service Agreement to be effective 1/28/2019.

Filed Date: 11/28/18.

Accession Number: 20181128-5000.

Comments Due: 5 p.m. ET 12/19/18.

Docket Numbers: ER19-409-000

Applicants: NSTAR Electric Company.

Description: Initial rate filing: NSTAR-HQUS Transfer Agreement (MMWEC Use Rights) to be effective 12/20/2018.

Filed Date: 11/28/18.

Accession Number: 20181128-5016.

Comments Due: 5 p.m. ET 12/19/18.

Docket Numbers: ER19-410-000.

Applicants: Midcontinent Independent System Operator, Inc., ALLETE, Inc.

Description: § 205(d) Rate Filing: 2018-11-28_SA 3215 MP-GRE ICA (Bear Creek) to be effective 11/29/2018.

Filed Date: 11/28/18.

Accession Number: 20181128-5020.

Comments Due: 5 p.m. ET 12/19/18.

Docket Numbers: ER19-411-000.

Applicants: Midcontinent Independent System Operator, Inc., ALLETE, Inc.

Description: § 205(d) Rate Filing: 2018-11-28_SA 3216 MP-GRE IA (Long Lake) to be effective 11/29/2018.

Filed Date: 11/28/18.

Accession Number: 20181128-5024.

Comments Due: 5 p.m. ET 12/19/18.

Docket Numbers: ER19-412-000.

Applicants: P.H. Glatfelter Company.

Description: Notice of Cancellation of Market-Based Rate Tariff of P.H. Glatfelter Company.

Filed Date: 11/28/18.

Accession Number: 20181128-5103.

Comments Due: 5 p.m. ET 12/19/18.

Docket Numbers: ER19-413-000.

Applicants: Southern California Edison Company.

Description: § 205(d) Rate Filing: LGIA Willy 9 Project SA No. 216 to be effective 11/29/2018.

Filed Date: 11/28/18.

Accession Number: 20181128-5113.

Comments Due: 5 p.m. ET 12/19/18.

Docket Numbers: ER19-414-000.

Applicants: Southern California Edison Company.

Description: § 205(d) Rate Filing: LGIA Willow Springs 4 Project SA No. 215 to be effective 11/29/2018.

Filed Date: 11/28/18.

Accession Number: 20181128-5115.

Comments Due: 5 p.m. ET 12/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2018.
Nathaniel J. Davis, Sr.,
Deputy Secretary.

[FR Doc. 2018-26330 Filed 12-3-18; 8:45 am]

BILLING CODE 6717-01-P